FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 24, 2008.

A. Federal Reserve Bank of St. Louis (Glenda Wilson, Community Affairs Officer) P.O. Box 442, St. Louis, Missouri 63166-2034:

1. First National Bank of Sparta Profit Sharing Plan; David Hauskins; Roger Deterding; and Mary Lou Bauer, each as Trustees of the Plan, together with David Hauskins; Mary Hauskins; The Roger L. Deterding Declaration of Trust; Roger L. Deterding as Trustee; The Nancy K. Deterding Declaration of Trust; Nancy K. Deterding as Trustee, all of Sparta, Illinois, and Mary Lou Bauer, Red Bud, Illinois, to gain control of First Bancorp of Sparta, Ltd., and thereby indirectly acquire control of First National Bank of Sparta, both of Sparta, Illinois.

Board of Governors of the Federal Reserve System, November 4, 2008.
Jennifer J. Johnson,
Secretary of the Board.

[FR Doc. E8-26601 Filed 11-6-08; 8:45 am]

BILLING CODE 6210-01-S